DEPARTMENT OF LABOR

Employment and Training Administration

Notice of Determinations Regarding Eligibility To Apply for Worker Adjustment Assistance

In accordance with section 223 of the Trade Act of 1974, as amended (19 U.S.C. 2273) the Department of Labor herein presents summaries of determinations regarding eligibility to apply for trade adjustment assistance for workers by (TA-W) number issued during the period of March 8, 2010 through March 26, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) there has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) the workers' firm is a supplier and the component parts it supplied to the firm described in paragraph (2) accounted for at least 20 percent of the production or sales of the workers' firm; or

(B) a loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) a summary of the report submitted to the President by the International Trade Commission under section 202(f)(1) with respect to the affirmative determination described in paragraph (1)(A) is published in the Federal Register under section 202(f)(3); or

(B) notice of an affirmative determination described in subparagraph (1) is published in the Federal Register; and

(3) The workers have become totally or partially separated from the workers' firm within—

(A) the 1-year period described in paragraph (2); or

(B) notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,211: Premium Allied Tool, Inc., On-site Leased Workers from Manpower and Spartan Staffing, Owensboro, KY, May 18, 2008

TA-W-70,764: Quality Metalcraft, Inc., Livonia, MI, May 21, 2008

TA-W-70,851: Kennametal, Inc., Irwin, PA, May 28, 2008

TA-W-70,942: Precise Engineering, Lowell, MI, May 26, 2008

TA-W-71,118: Rexnord Industries, LLC, Industrial Chain & Conveyor, Stivers, West Milwaukee, WI, June 9, 2008

TA-W-71,768: U.S. Steel Tubular Products, Inc., U.S. Steel Corporation, Leased Workers from Aerotek, Bellville, TX, July 21, 2008

TA-W-71,960: Hexagon Metrology, Inc., Fond du Lac, WI, August 7, 2008

TA-W-72,265: Strippit, Inc., LVD Company N.V., Leased Workers from Victory Staffing, Akron, NY, August 31, 2008

TA-W-72,299: National Office Furniture, Non-Manufacturing Division, Jasper, IN, September 14, 2008

TA-W-72,558: Weyerhaeuser Engineered Wood Products, Elkin, NC, October 8, 2008

TA-W-72,669: A&H Sportswear Co., Inc., Leased Workers from Job Connections and Express Personnel, Pen Argyl, PA, October 23, 2008

TA-W-72,992: Ideal Tool and Plastics, Joint Venture Tool and Mold, LLC, Meadville, PA, October 20, 2009

TA-W-73,006: Mueller Systems, DBA Hersey Meters, Leased Workers of Staffmasters, Cleveland, NC, November 27, 2008

TA-W-73,194: Beam Global Spirits and Wine, Leased Workers from Adecco, Cincinnati, OH, December 29, 2008

TA-W-72,745: Sanborn Map Company, Inc., Leased Workers Boecore Professional Services, Prototest, Chesterfield, MO, October 26, 2008

TA-W-72,130: Sanoh-America, Inc., Time Services, Findlay, OH, August 21, 2008

TA-W-72,875: Cooper Tools, Customer Service Division, Cooper Industries, Apex, NC, November 16, 2008

TA-W-70,621: John D. Hollingsworth on Wheels, Inc., Leased Workers of Corporate Staffing, Inc., Greenville, SC, May 19, 2008

TA-W-70,912: Anvil International, Inc., Beck Manufacturing, Leased Workers From Aerotek, Greencastle, PA, May 20, 2008

TA-W-71,145: St. Marys Carbon Company, Brookville, PA, June 10, 2008

TA-W-71,327: Arcelormittal Monessen, LLC, Arcelormittal Holdings, formerly known as Koppers, Leased Workers US Security Associates, Monessen, PA, May 31, 2008

TA-W-71,704: Hart and Cooley, Inc., Tomkins PLC, Leased Workers from Reliable, Masiello Employment Services, Turners Falls, MA, July 12, 2008

TA-W-71,722: Meritor Heavy Vehicle Braking System USA, Inc., Arvinmeritor, Inc., Leased Workers from Sourcepro, Carrollton, KY, July 16, 2008

TA-W-71,820: Fulton Precision Industries, Inc., McConnellsburg, PA, July 24, 2008

TA-W-71,838: Chickasha Manufacturing Co., Inc., Chickasha, OK, July 28, 2008

TA-W-71,869: Lane Furniture Industries, Inc., Laneventure Division, Leased Workers of Manpower, Conover, NC, July 30, 2008

TA-W-72,012: The Frog, Switch and Manufacturing Company, Carlisle, PA, July 18, 2008

TA-W-72,210: The Mitchell Gold Company, DBA Mitchell Gold And Bob Williams, Leased Workers. From Brigette's Staffing, Taylorsville, NC, September 2, 2008

TA-W-72,735: Colfer Manufacturing, Inc., Minerva, OH, October 28, 2008

TA-W-72,752: Arcelormittal Steelton, LLC, Leased Workers From Bernard and Bernard of Exton, Inc., Steelton, PA, November 2, 2008

TA-W-72,882: WER Corporation, DBA Aluminum Alloys and Advanced Machine, Leased Workers From Berks and Beyond, Sinking Spring, PA, November 20, 2008

TA-W-72,483: Maysteel, LLC, Staff One, Badger Tech, Boyd Hunter, Seek and QPS, Menomonee Falls, WI, September 21, 2008

TA-W-73,185: Belcan Engineering Group, Inc., Cincinnati, OH, December 28, 2008

TA-W-72,384: Milacron Plastics Manufacturing Group, LLC, Leased Workers from Staffmark, Viox, Securitas & Hoist & Crane, Mt. Orab, OH, September 22, 2008

TA-W-71,023: Arcelor Mittal, Cleveland, OH, June 4, 2008

TA-W-71,245: Montana Tunnels Mining, Inc., Apollo Gold Corporation, Jefferson City, MT, June 1, 2008

TA-W-71,269: Horton Archery, LLC, Formerly Known as Wildcomm-Horton Partners, LLC, Tallmadge, OH, June 16, 2008

TA-W-71,329: General Motors Company, Leased Workers of Advantis Occupational Health, Mansfield, OH, June 15, 2008

TA-W-71,430: Peddinghaus Corporation, Leased Workers of Agente Staffing and Citistaff, Bradley, IL, June 22, 2008

TA-W-71,584: Chrysler Group LLC, Formerly Known As Chrysler LLC, Quality Engineering Center, Auburn Hills, MI, June 15, 2008

TA-W-71,705: Arcelor Mittal, Leased Workers from Adecco, ESW, Guardsmark and Hudson Global Resources, Hennepin, IL, July 6, 2008

TA-W-71,952: General Motors Company, General Motors Corporation, Lake Orion, MI, August 6, 2008

TA-W-73,313: Nut Tree, Inc., Kidron, OH, January 6, 2009.

The following certifications have been issued. The requirements of Section 222(a)(2)(B) (shift in production or services) of the Trade Act have been met.

TA-W-70,770: Inrad, Inc., Kentwood, MI, May 28, 2008

TA-W-70,826: Royne Industries LLC, d/b/a/NASCOM, Vertek International, Kalama, WA, May 27, 2008

TA-W-70,917A: Agilent Technologies, Network Solutions, Independent Contractors, Leased Workers Volt Services, Austin, TX, June 1, 2008

TA-W-70,917: Agilent Technologies, Network Solutions, Independent Contractors, Leased Workers Volt Services, Colorado Springs, CO, June 1, 2008

TA-W-71,109: Micro Component Technology, Inc., On-Site Independent Contractor, St. Paul, MN, June 8, 2008

TA-W-71,164: Fortis Plastics, LLC, Brownsville, TX, June 9, 2008

TA-W-71,248: International Business Machines, Global Technology Service, Integrated Technology, Cost and Expense, Working from Various States in the United States, Report to Armonk, New York, June 1, 2008

TA-W-71,332A: Pace Industries, LLC, Corporate Office, Fayetteville, AR, June 12, 2008

TA-W-71,332: Pace Industries, LLC, B&C Division, Jonesboro, AR, June 12, 2008

TA-W-71,409: Emerson Power Transmission, McGill Manufacturing Division, Valparaiso, IN, June 24, 2008

TA-W-71,414: Tata Technologies, Inc., a subsidiary of Tata Technologies Limited, Novi, MI, June 25, 2008

TA-W-71,576: American Axle and Manufacturing, Inc., World Headquarters, Leased Workers from MSXI. EDS and Adecco, Detroit, MI, June 15, 2008

TA-W-71,660: Weyerhaeuser NR, ILevel Engineered Wood Products Division, Leased Workers from Manpower, Colbert, GA, July 9, 2008

TA-W-72,024: Pentair Electronic Packaging, PEP-IL Division Leased Workers of Aerotek, Schaumburg, IL, August 11, 2008

TA-W-72,094: Schaefer Marine, New Bedford, MA, August 15, 2008

TA-W-72,105: Oclaro Technology, Inc., Spectra Physics Div. of Newport Corp., Tex Work, Tucson, AZ, August 21, 2008

TA-W-72,112: Micro Motion, Inc., Div. of Emerson Process Mgmt. Leased Workers From Staffing Solutions, Boulder, CO, July 18, 2008

TA-W-72,123: MKS Instruments, ENI Products Div., Leased Workers Of Burns Personnel, Inc. and NESCO Resource, Rochester, NY, August 1, 2008

TA-W-72,343: Chamberlain Wireless Products Group, Inc., Volt Service Group and Hire Source, Vancouver, WA, September 15, 2008

TA-W-72,379: Premier Manufacturing Support Services, Inc., Spring Hill, TN, June 13, 2009

TA-W-72,386: Sovereign Tool and Engineering, LLC,, Muncie, IN, September 23, 2008

TA-W-72,462: Cardinal Health, Presource Med Products Division, Leased Workers From Adecco Temporary Services, Ontario, CA, September 24, 2008

TA-W-72,518: Wilson Tool International, Office Team/Robert Half and Volt Staffing, White Bear Lake, MN, October 6, 2008

TA-W-72,529: Celanese Corporation, Pampa, TX, October 5, 2008

TA-W-72,571: Freescale Semiconductor, Comuter Integrated Manufacturing Division, Chandler, AZ, October 7, 2008

TA-W-72,683: McConway and Torley, LLC, Trinity Industries, Inc., Pittsburgh, PA, October 26, 2008

TA-W-72,790: Agni-Gencell, Inc., Agni, Inc., Leased Workers from Staffing, Southbury, CT, November 3, 2008

TA-W-72,987: Lapp Insulators, LLC, Andlinger and Company, Leroy, NY, November 6, 2008

TA-W-73,001: Fiber Glass Systems, National Oilwell Varco, San Antonio Staffing, Big Spring, TX, December 1, 2008

TA-W-73,010: General Motors Powertrain Toledo, New GM Company, Leased Workers from Grub and Ellis, Knight, Toledo, OH, December 3, 2008

TA-W-73,059: Honeywell International, Automation & Control, Sensing & Control, Leased Workers from Manpower, Pawtucket, RI, November 12, 2008

TA-W-73,065: Domtar Paper Company, Fine Paper Division, Plymouth, NC, December 3, 2008

TA-W-73,087: Dover Parkersburg, Parkersburg, WV, December 11, 2008

TA-W-73,121: Hyosung USA, Inc., Leased Workers from Defender Services, Scottsville, VA, December 11, 2008

TA-W-73,158: Siemens Medical Solutions USA, Inc., Oncology Care Systems Division, Concord, CA, December 22, 2008

TA-W-73,238: Solon Manufacturing Company, Skowhegan, ME, January 7, 2009

TA-W-73,257: Pacific Coast Industries, Sekiso Corporation, Leased Workers from Adecco and Premier Staffing, Tracy, CA, January 12, 2009

TA-W-73,264: Suntron Corporation, Leased Workers of Manpower, Newburg, OR, December 16, 2008

TA-W-73,293: Continental Automotive Systems, US, Leased Workers of Yoh Managed Services, Huntsville, AL, January 7, 2009

TA-W-73,314A: Delphi Electronics and Safety, Working On Site at Delphi Electronics and Safety, Kokomo, IN, January 15, 2009

TA-W-73,314: Delphi Electronics and Safety, Leased Workers from Alliance, Kokomo, IN, February 15, 2010

TA-W-73,319: LA-Z-Boy Casegoods, Inc.—LEA, aka American Drew, Wilkesboro, NC, January 8, 2009

TA-W-73,400: Volvo Construction Equipment North America, Inc., Leased Workers from Friday's Staffing and Adecco, Arden, NC, February 1, 2009

TA-W-73,642: Intel Corporation, FAB 30 Division, Leased Workers of Volt Technical Resource, Staff Finders, Hillsboro, OR, March 3, 2009

TA-W-72,276: Weyerhaeuser Company, Warrenton, OR, September 2, 2008

TA-W-71,049: Chrysler Group LLC, Formerly Known as Chrysler LLC, Warren Office Building, Warren, MI, May 27, 2008

TA-W-70,985: Computer Aid, Inc., Leased Workers Imetris Corp., Bonsal Consulting etc., Rochester, NY, May 19, 2008

TA-W-71,110: International Decision Systems, Inc., Minneapolis, MN, June 8, 2008

TA-W-71,150: Seton Company, Americas Sales Division, Farmington Hills, MI, June 10, 2008

TA-W-71,166: Franklin Electronic Publishing, Leased Workers of Brooksource Personnel, Burlington, NJ, June 10, 2008

TA-W-71,323: Sanlo, Inc., Div. of Actuant Corp., Leased Workers From Swanson Staffing, Kelly Service, Michigan City, IN, June 19, 2008

TA-W-71,377: International Business Machines Corporation, Global Business Services, Lease Workers Ajilon, Analysts Int'l Corp., Apollo, Southbury, CT, June 22, 2008

TA-W-71,457: Oxford Collections, Division of Li and Fung USA, Gaffney, SC, June 25, 2008

TA-W-71,527: Pomeroy IT Solutions, Working On-Site at Cincinnati Bell, Cincinnati, OH, June 26, 2008

TA-W-71,552: Hewlett-Packard (HP), Enterprise Services Division, Formerly Known As EDS, Englewood, CO, July 2, 2008

TA-W-71,601: The Bank of New York Mellon, Corporate Trust Operations Division/Leased Workers of Aerotek, Inc., Syracuse, NY, July 7, 2008

TA-W-71,611: AT&T Services, Inc., Information Technology Operations, Leased Workers Agile 19008 Group Etc, Hoffman Estates, IL, July 9, 2008

TA-W-71,612: Ameriprise Financial Services, Inc., Customer Service Department, Onsite Workers from WNS and Sykes, Minneapolis, MN, July 8, 2008

TA-W-72,115: Emerson Climate Technologies, White-Rodgers Division, St. Louis, MO, August 18, 2008

TA-W-72,237: AGFA HealthCare, Inc., Healthcare Division, Westerly, RI, September 3, 2008

TA-W-72,451: International Business Machines Corporation, Leased Workers from Logicalis, Teksystems, SDI, Golden Valley, MN, September 29, 2008

TA-W-72,769: Siemens IT Solutions and Services, Level One Service Desk, Clarks Summit, PA, October 30, 2008

TA-W-72,774: CRH North America, Inc., Kforce, Warren, MI, October 14, 2008

TA-W-72,804: Borland Software, Micro Focus, Worldwide Revenue Department, Austin, TX, November 5, 2008

TA-W-72,843: Renaissance Bankcard Services of Kentucky, Inc., Operations Support, HSBC Finance Corporation, London, KY, November 12, 2008

TA-W-72,874: Cooper Tools, Customer Service Division, Cooper Industries, Lexington, SC, November 16, 2008

TA-W-72,879: Universal Warranty Corporation, GMAC Inc., Leased Workers of Guru Alliance, ATS Services etc., Omaha, NE, November 11, 2008

TA-W-72,890: Nortel Networks, Ltd, 4G LTE, Richardson, TX, November 18, 2008

TA-W-72,946: Kraft Foods Global, Inc., Mobile Operations Support Group. Leased Workers of Spherion, Wilkes-Barre, PA, November 24, 2008

TA-W-72,980: IBM, Farmers Branch, TX, November 24, 2008

TA-W-73,011A: AGFA HealthCare, Incorporated, Wilmington, MA, September 3, 2008

TA-W-73,011: AGFA HealthCare, Inc., Wilmington, MA September 3, 2008

TA-W-73,034: Aalfs Manufacturing, Inc., Sample and Pattern Making, Sioux City, IA, December 3, 2008

TA-W-73,380: Fiserv Fulfillment Services, Inc., ISNG Solutions, Gators Division, Pittsburgh, PA, January 22, 2009

TA-W-72,078: Advance Auto Business Support, LLC, Expense Accounts Payable Div., Advance Stores Co., Roanoke, VA, August 18, 2008

TA-W-72,400: California State Automobile Association Inter-Insurance Bureau, Information Technology Division, Glendale, AZ, September 15, 2008

TA-W-72,549: Charming Shoppes of Delaware, Inc., Information Technology Services Division, Bensalem, PA, October 7, 2008

TA-W-72,610: Brand Science LLC, dba Lesportsac, Leased Workers of The Job Shop, Stearns, KY, October 16, 2008

TA-W-72,651: EDS An HP Company, Hewlett Packard Enterprise Services, Vandalia, OH, September 22, 2008

TA-W-72,720: Philips Healthcare Global Customer Service, Global Customer Service (GCS), Philips Electronics, North America Corp., San Jose, CA, October 28, 2008

TA-W-72,789: Hartford Financial Services Group, Inc., Leased Workers from Beeline, Farmington, CT, November 6, 2008

TA-W-72,958: Roadway Express, Inc., Regional Acquired Shipment Detail, YRC Worldwide, Burnsville, MN, November 25, 2008

TA-W-73,097: Coventry Health Care Workers Compensation, Inc., Bill Review Services Dept., Leased Workers Remedy Staffing/Office Team, Tucson, AZ, December 14, 2008.

The following certifications have been issued. The requirements of Section 222(b) (adversely affected workers in public agencies) of the Trade Act have been met.

None.

The following certifications have been issued. The requirements of Section 222(c) (supplier to a firm whose workers are certified eligible to apply for TAA) of the Trade Act have been met.

TA-W-71,062: Kautex of Georgia, Inc., Business Unit of Textron, Leased Workers of Phillips Staffing, etc., Lavonia, GA, June 5, 2008

TA-W-71,088: Cubicon Corporation, Ripley, MS, June 4, 2008

TA-W-71,132: General Motors Corporation, Grand Rapids Metal Center, Metal Fabricating, Leased Workers from Securitas, Grand Rapids, MI, May 20, 2008

TA-W-71,135: Noble Metal Processing Ohio, Noble International, Stow, OH, June 10, 2008

TA-W-71,200: Protective Industries, Inc., Leased Workers of Career Concepts, Volt Services Group, Erie, PA, May 21, 2008

TA-W-71,223: Keystone Powdered Metal Company, Cherryville Division, Leased Workers from Lincoln Staffing, Cherryville, NC, June 15, 2008

TA-W-71,292: Nobel Automotive Ohio, LLC., Archbold, OH, June 18, 2008

TA-W-71,371: Standard Locknut LLC., Westfield, IN, June 22, 2008

TA-W-71,376: Johnstown Specialty Castings, Inc., Johnstown, PA, June 17, 2008

TA-W-71,712: Automodular Assemblies of Ohio, Inc., Lordstown, OH, July 16, 2008

TA-W-71,717: Joseph T. Ryerson and Son, Inc., Leased Workers of CRST International, Inc., Burns Harbor, IN, July 6, 2008

TA-W-71,727: TI Automotive, Subsidiary of TI Group Automotive Systems, LLC. Fuel Sys. Div., Ossian, IN, July 7, 2008

TA-W-71,874: Guardian Automotive Trim, Inc., Leased Workers of Action Temporary Services/Team Industrial Services, Evansville, IN, July 30, 2008

TA-W-72,159: Caterpillar Sumter Hydraulics, Advanced Systems Division, Leased Workers from Roper Staffing, Sumter, SC, August 27, 2008

TA-W-72,285: Sunoco, Paper Division, Leased Workers of Manpower, Lancaster, OH, September 11, 2008

TA-W-72,290: General Motors Company, Pontiac Metal Center, Leased Workers Securitas, Premier, etc., Pontiac, MI, September 9, 2008

TA-W-72,803A: Latrobe Specialty Steel Distribution, Leased Workers from Ryan's Alternative Staffing and Accounting, Vienna, OH, November 6, 2008

TA-W-72,803B: Latrobe Specialty Steel Distribution, Leased Workers from Staffmark and Aspire Staffing, Whitehouse, TN, November 6, 2008

TA-W-72,803C: Latrobe Specialty Steel, Leased Workers from Adecco Employment Services, Franklin, PA, November 6, 2008

TA-W-72,803D: Latrobe Specialty Steel Distribution, Chicago, IL, November 6, 2008

TA-W-72,803: Latrobe Specialty Steel, Leased Workers from Adecco Employment Services, Latrobe, PA, November 6, 2008

TA-W-72,912: Rexam Closure System, Inc., Leased Workers from Adecco Employment Services, Hamlet, NC, November 10, 2008

TA-W-72,929: Republic Engineered Products, Inc., Lorain Plant, Lorain, OH, November 20, 2008

TA-W-73,085: Inspire Technologies, Inc., Caldwell, ID, December 1, 2008

TA-W-73,230: Plastic Omnium Automotive Exteriors, LLC., Anderson, SC, January 6, 2009

TA-W-73,251: Amtex, Inc., Hayashi Telepu Company, Leased Workers of Availability Personnel Services, Manteca, CA, January 12, 2009

TA-W-73,252: Arvin Sango, Inc., Leased Workers from Placement Pros, Merced, CA, January 12, 2009

TA-W-70,822: Wagner Equipment Company, Tyrone, NM, May 27, 2008

TA-W-71,279: HCL America, Boise, ID, June 17, 2008

TA-W-71,314: Mattson Technology, Inc., U.S. Field Service Engineering, Leased Workers Nstar Global Services, Fremont, CA, June 18, 2008

TA-W-71,346: Martin Plant Services, Delphi Corporation, Athens, AL, June 19, 2008

TA-W-71,433: Syncreon USA, Belvidere, IL, June 16, 2008

TA-W-72,368: Micale Construction Services, Inc., Kersey, PA, September 17, 2008

TA-W-72,611: Ryder Integrated Logistics, Ryder Logistics Division, Leased Workers of Randstad, Great Lakes HR, Auburn Hills, MI, October 15, 2008

TA-W-72,900: CEVA Freight LLC., Dell Logistics Div., Leased Workers from Prologistix, Winston-Salem, NC, November 18, 2008

TA-W-73,255: Mountain Valley Express Company, Inc., Dedicated Logistics Division, Leased Workers from Staffmark and Adecco, Manteca, CA, January 12, 2009

TA-W-73,445: ILevel By Weyerhaeuser, Weyerhaeuser Company, Boise Tech Center, Boise, ID, January 22, 2009

The following certifications have been issued. The requirements of Section 222(c) (downstream producer for a firm whose workers are certified eligible to apply for TAA) of the Trade Act have been met.

TA-W-72,351: Guardian Freight, LLC., Wholly-Owned Subsidiary of Vanguard Furniture, Inc., Conover, NC, September 14, 2008

The following certifications have been issued. The requirements of Section 222(f) (firms identified by the International Trade Commission) of the Trade Act have been met.

TA-W-73,266: DuPont Teijin Films, Fayetteville, NC, November 6, 2007

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-71,390: Whitley's Clothing, Inc., d/b/a Whitley Apparel Company, Dover, NC

TA-W-71,481: Koppers, Inc., Clairton, PA

TA-W-71,946: Loew-Cornell, Inc., A Subsidiary of Jarden Corporation, Englewood Cliffs, NJ

TA-W-72,868: Empire Die Casting Company, Inc., Macedonia, OH

TA-W-72,955: Bridgestone Americas Product Development, Bridgestone Americas, Leased Workers of Kelly Services, Akron, OH

The investigation revealed that the criteria under paragraphs (a)(2)(A)(i) (decline in sales or production, or both) and (a)(2)(B) (shift in production or services to a foreign country) of section 222 have not been met.

TA-W-71,873: Global Metal Products, Inc., St. Mary's, PA

TA-W-72,475: Tate and Lyle Ingredients Americas, Inc., a subsidiary of Tate and Lyle Plc, d/b/a A.E. Staley, Houlton, ME

The investigation revealed that the criteria under paragraphs(a)(2)(A) (increased imports) and (a)(2)(B) (shift in production or services to a foreign country) of section 222 have not been met.

TA-W-70,487: Meridian Rail Acquisition Corporation, dba Greenbrier Rail Services, aka Greenbrier Casting Reclamation, Chicago Heights, IL

TA-W-70,855: Smurfit-Stone Container, Knoxville, TN

TA-W-70,938: Imperial Carbide, Inc., Meadville, PA

TA-W-70,946: MTD Products, Inc., Brownsville, TN

TA-W-70,952: Paul W. Marino Gages, Inc., Warren, MI

TA-W-70,956: Snorkel International, Inc., A Division of Tanfield Group PLC, Elwood, KS

TA-W-70,990: Veritude, Devonshire Investors A Fidelity Investments, Computer Software Division, West Lake, TX

TA-W-71,038A: General Pattern Company, Blaine, MN

TA-W-71,038: General Pattern Company, Ham Lake, MN

TA-W-71,074: American Roller Bearing & Manufacturing Co., Hiddenite, NC

TA-W-71,146: Sanford Brands, Newell Rubbermaid Office, Shelbyville, TN

TA-W-71,163: Erickson Air-Crane, Inc., Central Point, OR

TA-W-71,285: Rousseau Acquisition Corporation, Modar, Inc., Williamson and Manpower, Benton Harbor, MI

TA-W-71,294: Liberty Pressed Metals, Leased Workers from Spherion, Kersey, PA

TA-W-71,311: Outbound Technologies, Inc., Indianapolis, IN

TA-W-71,401: Setco Automotive, Inc., Paris, TN

TA-W-71,415: Sealy Mattress Company, Clarion, PA

TA-W-71,423: JBT Corporation, JBT Aerotech, Automated Systems Division, Chalfont, PA

TA-W-71,488: BMJ Mold and Engineering, Eikenberry & Associates, Inc., Kokomo, IN

TA-W-71,533: Mestek, Inc., Leased Workers from Coworx and Point Staffing, South Windsor, CT

TA-W-71,561A: Wheeling Corrugating Company, Severstal North American, Beech Bottom, WV

TA-W-71,561B: Mountain State Carbon, LLC., Severstal North American, Follansbee, WV

TA-W-71,561: Severstal Wheeling, Inc. and Wheeling Corrugating Company, Wheeling Corrugating Co., Severstal North American, Wheeling, WV

TA-W-71,695A: Semitool, Inc., Leased from LC Staffing, Express Personnel, and Workplace, Inc., Birch Grove, MT

TA-W-71,695B: Semitool, Inc., Leased Workers from LC Staffing, Express Personnel and Workplace, Inc., Libby, MT

TA-W-71,695: Semitool, Inc., Leased from LC Staffing, Express Personnel and Workplace, Inc., Kalispell, MT

TA-W-71,824: Neenah Paper FR, LLC., Ripon, CA

TA-W-72,043: Carmeuse Industrial Sands, Formerly Oglebay Norton Industrial Sands, Inc., Glenford, OH

TA-W-72,107: Kuka Assembly and Test Corporation, Fenton, MI

TA-W-72,151: UPF, Inc., Flint, MI

TA-W-72,289: ISP Stitching and Bindery Products, Samuel Strapping Systems, Racine, WI

TA-W-72,460: Ranch Life Plastics, Inc., Eaton Rapids, MI

TA-W-72,466: Ethicon, Inc., dba Closure Medical Corp., Johnson and Johnson, Raleigh, NC

TA-W-72,606: American Food and Vending, Spring Hill, TN

TA-W-72,634: Cimarron Energy, Inc., Marlow, OK

TA-W-72,652: Legacy, Inc., Winston-Salem, NC

TA-W-72,788: Barnes Aerospace, Inc., Ceramics Division, Windsor, CT

TA-W-70,871A: Elliott Homes, Inc., A Separate Entity of Solitaire Holdings, LLC., Duncan, OK

TA-W-70,871B: Elliott Homes, Inc., A Separate Entity of Solitaire Holdings, LLC., Madill, OK

TA-W-70,871C: Big Springs Manufactured Homes, LP., A Separate Entity of Solitaire Holdings, LLC., Big Springs, TX

TA-W-70,871: Diamond Homes Transport, Inc., A Separate Entity of Solitaire Holdings, LLC, Duncan, OK

TA-W-70,904: PHD: US, Omincom Media Group, Atlanta, GA

TA-W-71,154: Shogren, Inc., Concord, NC

TA-W-71,240: On Target Xpress, Spokane, WA

TA-W-71,266: Rockwell Automation, Detroit Office, Troy, MI

TA-W-71,408: Circuit City Stores, Incorporated, Marion Distribution Center, Marion, IL

TA-W-71,413: Crystal Employment Services, Madison Heights, MI

TA-W-71,440: O'Bryan Brothers, Inc., Leon, IA

TA-W-72,162: Vendor Managed Solutions, Inc., formerly known as SDE and SDE Vendor Managed Solutions, Troy, MI

TA-W-72,310: Federal Marine Terminals, Inc., Eastport, ME

TA-W-72,370: HMX Tailored, HMX LLC, Buffalo, NY

TA-W-72,605: Coastal Diesel Service, Inc., New Bern, NC

TA-W-72,629: Marmon/Keystone Corporation, Chicago Division, Bolingbrook, IL

TA-W-73,053: Homeq Servicing, Leased Workers from Ranstad, Boone, NC

TA-W-73,224: Jobworks, Inc., Connersville, IN

TA-W-70,828: Botech Industries, LLC, Hohenwald, TN

The investigation revealed that the criteria under paragraphs (b)(2) and (b)(3) (public agency acquisition of services from a foreign country) of section 222 have not been met.

TA-W-72,459: Lawrence County Department of Jobs and Family Services, Ironton, OH

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W-73,104: United Steelworkers, Dawson, PA

TA-W-73,119; Tenax Corporation, Crown Paper Box Division, Indianapolis, IN

TA-W-73,131: Android Wixom, Wixom, MI

TA-W-73,168; Riverside Mechanical, Inc., Groveport, OH

TA-W-73,171; Hallmark Jewelry, Warwick, RI

TA-W-73,284: Lockheed Martin, Cleveland, OH

TA-W-73,658; Arrow Truck Sales, Montebello, CA

TA-W-71,097: Commercial Vehicle Group/Trim Systems, Dublin, VA

TA-W-71,112: Collins Ink Corporation, Cincinnati, OH

TA-W-71,151: J and D Manufacturing, Eau Claire, WI

TA-W-71,176: Euclid Industries, Inc., Bay City, MI

TA-W-71,254: Precision Parts Center, Corpus Christi, TX

TA-W-71,657: Graftech International Holdings, Columbia, TN

TA-W-71,731: Valentine Tool and Stamping, Inc., Norton, MA

TA-W-72,111: Fuzion Technologies, Inc., Adrian, PA

TA-W-72,401: Jastev Casework Company, Columbia, TN

TA-W-72,418: Electronic Data Systems, Montvale, NJ

TA-W-72,533: Ensign United States Drilling Company, Denver, CO

TA-W-72,588: Pavco Industries, Inc., Pascagoula, MS

TA-W-72,598; Nittsu Shoji U.S.A., Inc., Troy, OH

TA-W-72,894: U.S. Axle, Inc., Pottstown, PA

TA-W-72,907; Gallery Leather Company, Inc., Trenton, ME

The following determinations terminating investigations were issued in cases where these petitions were not filed in accordance with the requirements of 29 CFR 90.11.

Every petition filed by workers must be signed by at least three individuals of the petitioning worker group. Petitioners separated more than on year prior to the date of the petition cannot be covered under a certification of a petition under Section 223(b), and therefore, may not be part of a petitioning work group for one or more of these reasons, these petition were deemed invalid.

TA-W-71,622: Vision Custom Tooling, Inc., Birdsboro, PA

The following determinations terminating investigation were issued because the petitioning groups of workers are covered by certifications. Consequently, further investigation in these cases would service no purpose since the petitioning groups of workers cannot be covered by more than one certification at a time.

TA-W-73,061: Honeywell International, Inc., Automation & Control, Sensing & Control, Springfield, IL, covered by TA-W-72,904A: Honeywell International, Inc., Automation & Control, Sensing & Control, Springfield, IL

TA-W-73,139: Zebra Technologies Corp., Camarillo, CA, covered by TA-W-70,463A: Zebra Technologies Corp., Camarillo, CA

TA-W-71,439: Levi Strauss and Co., Global Supply Chain Organization, San Francisco, CA, covered by TA-W- 70,213: Levi Strauss and Co., Global Supply Chain Organization, San Francisco, CA

TA-W-72,536: Hanesbrands, Inc., Winston-Salem, NC, covered by TA-W-72,989B: Hanesbrands, Inc., Winston-Salem, NC

TA-W-72,592: Sipco Molding Technologies, Meadville, PA, covered by TA-W-70,457A, as amended: Sipco Molding Technologies, Meadville, PA

TA-W-73,058: Honeywell International, Inc., Automation & Control, Sensing & Control, Spring Valley, IL, covered By TA-W-72,902: Honeywell International, Inc., Automation & Control, Sensing & Control, Spring Valley, IL

The following determinations terminating investigations were issued because the petitions are the subject of ongoing investigations under petitions filed earlier covering the same petitioners.

TA-W-73,140: Talbar, Inc., Meadville, PA, covered by TA-W-73,089: Talbar, Inc., Meadville, PA

TA-W-73,151: Trimble Navigation Ltd, Mobile Computing Solutions Division, Corvallis, OR, covered by TA-W- 73,144: Trimble Navigation Ltd., Mobile Computing Solutions Division

TA-W-73,163: Siemens Medical Solutions, Malven, PA, covered by TA-W-73,099: Siemens Medical Solutions, Malven, PA

TA-W-73,298: Citizen's Bank, Medford, MA, covered by TA-W-72,873: RBS Citizens N.A., Medford, MA

TA-W-73,326: The North Carolina Moulding Company, Lexington, NC, covered by TA-W-73,186: The North Carolina Moulding Company, Lexington, NC

TA-W-73,356: Ceratizit Newcomer USA, Derry, PA, covered by

TA-W-73,309: Ceratizit Newcomer USA, Derry, PA

TA-W-73,365; Republic Engineered Products, Massillon, OH, covered by TA-W-73,363: Republic Engineered Products, Massillon, OH

TA-W-73,404: C.C. Forbes Company, Big Lake, TX, covered by TA-W-73,387: C.C. Forbes Company, Big Lake, TX

TA-W-73,408: National Oilwell Varco, Houston, TX (San Angelo, TX), covered by TA-W-73,399: National Oilwell, San Angelo, TX

TA-W-73,475: Springs Global US, Inc., Charles D. Owen Manufacturing Div., Swannanoa, NC, covered by TA-W- 73,469: Springs Global US, Inc., Charles D. Owen Manufacturing Div., Swannanoa, NC

TA-W-73,499; Geocycle, LLC, Dundee, MI, covered by TA-W-73,444: Geocycle, USA, Dundee, MI

TA-W-72,619: ITW Shippers Paper Products, Mt. Pleasant, TN, covered by TA-W-72,476: ITW Shippers Paper Products, Mt. Pleasant, TN

TA-W-72,783; Siemens IT Solutions and Services, Inc., Clark Summit, PA, covered by TA-W-72,283: Siemens IT Solutions and Services, Inc., Clark Summit, PA

I hereby certify that the aforementioned determinations were issued during the period of March 8, 2010 through March 26, 2010. Copies of these determinations are available for inspection in Room N-5428, U.S. Department of Labor, 200 Constitution Avenue, NW., Washington, DC 20210 during normal business hours or will be mailed to persons who write to the above address. These determinations also are available on the Department's Web site at http://www.doleta/tradeact under the searchable listing of determinations.

Dated: April 16, 2010.
Elliott S. Kushner,
Certifying Officer, Division of Trade Adjustment Assistance.

[FR Doc. 2010-9484 Filed 4-22-10; 8:45 am]

BILLING CODE 4510-FN-P